DEPARTMENT OF HEALTH AND HUMAN SERVICES

Centers for Disease Control and Prevention

[Program Announcement 00079]

Association of State and Territorial Directors of Health Promotion and Public Health Education (ASTDHPPHE); Notice of Availability of Funds

A. Purpose

The Centers for Disease Control and Prevention (CDC) announces the availability of fiscal year (FY) 2000 funds for a cooperative agreement with the Association of State and Territorial Directors of Health Promotion and Public Health Education (ASTDHPPHE), an affiliate of the Association of State and Territorial Health Officials (ASTHO).

CDC is committed to achieving the health promotion and disease prevention objectives of “Healthy People 2010” a national activity to reduce morbidity and mortality and improve the quality of life. For the conference copy of “Healthy People 2010,” reset the internet site: <HTTP://www.health.gov/healthy people>.

This announcement is related to the focus areas of Physical Activity and Fitness, Nutrition, Tobacco Use, Education and Community-Based Programs, Oral Health, Arthritis, Cancer, Diabetes, Disability Conditions, and Heart Disease and Stroke.

The purpose of this cooperative agreement is to address the training, research, and program implementation needs required to build health promotion and public health education capacity at the State and territorial level.

This will include strategic planning for the Association to strengthen the infrastructure for assessment of constituent needs to build health education capacity at the state and territorial level; coordinating the annual National Conference on Health Education and Health Promotion; strengthening collaborations with national and international level partners; developing practice to research demonstration activities; developing continuing education and distance-based training; and developing leadership and training opportunities.

B. Eligible Applicant

Assistance will be provided only to ASTDHPPHE. No other applications will be solicited. ASTDHPPHE is the only appropriate and qualified agency that can provide the services specified under this announcement.

Eligibility is limited to ASTDHPPHE because of its unique relationship with the Association of State and Territorial Health Officials (ASTHO) and other ASTHO affiliates. ASTDHPPHE is the only national, nonprofit health education organization of which program directors and staff representing all States and territories are members. As such, it is uniquely capable, and organized specifically to serve as a leader and a conferee of activities relative to State Health education programs. ASTHO represents the chief public health official of each State and territory. Through its own membership, ASTHO has developed unique knowledge and understanding of the needs and operations of State Health agencies.

ASTDHPPHE is the only affiliate whose primary mission is to promote health education and health promotion as core disciplines of public health practice and to advocate for quality health education and health promotion programs and strategies to address the nation's leading health problems. ASTDHPPHE has served as a health education and health promotion policy development and capacity building organization since 1946, and over the years it has strengthened public health education goals and objectives. The membership is uniquely diverse and its members, who provide major leadership to State and Territorial categorical health areas, have strengthened health education and health promotion programs nationwide. ASTDHPPHE also provides consultation and technical assistance to numerous agencies and has liaison relationships with many national organizations. In this way, the Association is deeply involved in health education and health promotion program development and evaluation efforts that are conducted nationally.

In collaboration with other national organizations, the association accomplishes its mission by disseminating information on state-of-the-art health education and health promotion policies and strategies. The association has the established relationships and expertise necessary to carry-out this cooperative agreement. The unique information exchange among the ASTDHPPHE members and expert program knowledge provide it with special credibility with national, private, and voluntary agencies. In addition, for the last 16 years ASTDHPPHE has worked with National Center for Chronic Disease Prevention and Health Promotion in co-sponsoring the annual Health education and Health promotion conference. Although other organizations may possess some of these abilities and/or perform some of these roles, no other organization has ASTDHPPHE's unique characteristics. ASTDPPHE is comprised of State health promotion/health education program directors, who are necessary to effectively carry out the activities entailed in this program.

Note: Public Law 104-65 states that an organization described in selection 501(c)(4) of the Internal Revenue Code of 1986 that engages in lobbying activities is not eligible to receive Federal funds constituting an award, grant, cooperative agreement, contract, loan, or any other form.

C. Availability of Funds

Approximately $735,000 is available in FY 2000 to fund this award. It is expected that the award will begin on or about September 30, 2000, and will be for a 12-month budget period within a project period of up to five years. This funding estimate may change. Continuation awards within an approved project period will be made on the basis of satisfactory progress as evidenced by required reports and availability of funds.

D. Where To Obtain Additional Information

This and other CDC announcements can be found on the CDC home page internet address: http://www.cdc.gov. If you have questions business management technical assistance may be obtained from:

Barry Copeland, Grants Management Specialist, Grants Management Branch, Procurement and Grants Office, Centers for Disease Control and Prevention, Room 300, 2920 Brandywine Road, Atlanta, Georgia 30341, Telephone: 770/488-2762, E-mail address: bjc8@CDC.gov

For technical assistance, contact:

John M. Korn, Public Health Advisor, National Center for Chronic Disease Prevention and Health Promotion, Centers for Disease Control and Prevention (CDC), 4770 Buford Highway NE, Mailstop K-30, Atlanta, GA 30341-3717, Telephone: 770/488-5427, E-mail address: jmk3@cdc.gov

Dated: June 6, 2000.
Henry S. Cassel, III,
Deputy Director, Procurement and Grants Office,, Center for Disease Control and Prevention (CDC).

[FR Doc. 00-14828 Filed 6-12-00; 8:45 am]

BILLING CODE 4163-18-P